DEPARTMENT OF COMMERCE

National Oceanic and Atmospheric Administration

RIN 0648-XF280

Mid-Atlantic Fishery Management Council (MAFMC); Meeting

AGENCY: National Marine Fisheries Service (NMFS), National Oceanic and Atmospheric Administration (NOAA), Commerce.

ACTION: Notice; public meeting.

SUMMARY: The Highly Migratory Species (HMS) and Law Enforcement Committees of the Mid-Atlantic Fishery Management Council (Council) will hold a joint meeting.

DATES: The meeting will be held on Thursday, April 6, 2017, beginning at 9 a.m. For agenda details, see SUPPLEMENTARY INFORMATION.

ADDRESSES: The meeting will be held via webinar with a telephone-only connection option. Details will be posted at http://www.mafmc.org/council-events/2017/joint-hms-law-enforcement-committee-meeting-webinar.

Council address: Mid-Atlantic Fishery Management Council, 800 N. State Street, Suite 201, Dover, DE 19901; telephone: (302) 674-2331 or on their Web site at www.mafmc.org.

FOR FURTHER INFORMATION CONTACT: Christopher M. Moore, Ph.D., Executive Director, Mid-Atlantic Fishery Management Council, telephone: (302) 526-5255.

SUPPLEMENTARY INFORMATION: The purpose of the meeting is to address permitting and catch reporting requirements/compliance in HMS-permitted fisheries.

Special Accommodations

The meeting is physically accessible to people with disabilities. Requests for sign language interpretation or other auxiliary aid should be directed to M. Jan Saunders, (302) 526-5251, at least 5 days prior to the meeting date.

Dated: March 16, 2017.
Tracey L. Thompson,
Acting Deputy Director, Office of Sustainable Fisheries, National Marine Fisheries Service.

[FR Doc. 2017-05537 Filed 3-20-17; 8:45 am]

BILLING CODE 3510-22-P